DEPARTMENT OF THE TREASURY

Community Development Financial Institutions Fund

Announcement Type: Notice and Request for Public Comment

AGENCY: Community Development Financial Institutions Fund, Treasury.

ACTION: Notice and request for public comment.

SUMMARY: The Department of the Treasury, as part of its continuing effort to reduce paperwork and respondent burden, invites the general public and other Federal agencies to take this opportunity to comment on proposed and/or continuing information collections, as required by the Paperwork Reduction Act of 1995. Currently, the Community Development Financial Institutions Fund (CDFI Fund), U.S. Department of the Treasury, is soliciting comments concerning the changes to the Transaction Level Report (TLR) that will capture transactions related to the Community Development Financial Institutions Equitable Recovery Program (CDFI ERP).

DATES: Written comments must be received on or before October 21, 2024 to be assured of consideration.

ADDRESSES: Submit your comments via email to Shannon McKay, Program Manager, Office Financial Strategies and Research, CDFI Fund, U.S. Department of the Treasury, at CDFI-FinancialStrategiesandResearch@cdfi.treas.gov.

FOR FURTHER INFORMATION CONTACT: Shannon McKay, Program Manager for Office of Financial Strategies and Research, CDFI Fund, U.S. Department of the Treasury, 1500 Pennsylvania Ave. NW, Washington, DC 20220 or by phone at (202) 653-0300. Other information regarding the CDFI Fund and its programs may be obtained through the CDFI Fund's website at https://www.cdfifund.gov.

SUPPLEMENTARY INFORMATION:

Title: CDFI/NACA Program Award Recipient and NMTC Allocatee Annual Report including CDFI ERP.

OMB Number: 1559-0027.

Abstract: This information collection currently captures quantitative transactional information from CDFIs as part of their reporting requirements under the CDFI Program Financial Assistance (FA) and CDFI Rapid Response Program (CDFI RRP) Awards. The CDFI Fund is proposing additional changes and data points to these transaction-level reports to capture transaction data associated with the CDFI Equitable Recovery Program (CDFI ERP) as well. CDFIs submit these TLRs as part of their annual award compliance reporting requirements. The current reporting requirements for the FA, CDFI RRP, and CDFI ERP Programs can be found on the CDFI Fund website at https://www.cdfifund.gov/. The current version of the existing TLR guidance is available at https://www.cdfifund.gov/amis-reportingunderCDFI/NACA/RRP Transaction Level Report (TLR) Data Point Collection Guide—December 2023.

This information is used to assess: (1) the Award Recipient's approved use of the Award Funds; (2) the Award Recipient's financial condition; (3) the socio-economic characteristics of Award Recipient's borrowers/investees, loan and investment terms, repayment status, and community development outcomes; (4) the Award Recipient's compliance with certain CDFI Certification and Target Market requirements; and (5) overall compliance with the terms and conditions of the allocation agreement entered into by the CDFI Fund and the Recipient.

To address the CDFI ERP reporting, impact measurement, and compliance needs, the following changes are proposed:

Updates to the Existing TLR, Address Record, and Loan Purchase Reports

New answer choices for existing data fields.

New data fields for measuring the specific impacts, geographies, and characteristics of CDFI ERP transactions.

New Reporting Templates for CDFI ERP-Specific Grants and Consumer Loans

A new Grant-Level Report (GLR) template and data fields to capture grantmaking activity that CDFI ERP Award Recipients may conduct as part of meeting their CDFI ERP Performance Goals and Activities.

A new CDFI ERP-specific Consumer Loans/Investments Report (ERP CLR) subtotal breakout completed by regulated entities only (banks, credit unions, cooperativas, and depository institution holding companies) that summarizes CDFI ERP consumer loan activity at the census tract level and is completed in addition to the existing CLR.

The data points and reports (new and revised) align with the CDFI ERP Eligible Activities and will allow the CDFI Fund to track and assess CDFI ERP impacts and compliance with certain terms and conditions of the CDFI ERP Award. The proposed changes also aim to minimize reporting burden for Award Recipients and maximize use of existing forms/reports where possible. The new data points and templates will only be required for transactions the CDFI is choosing to associate with CDFI ERP. In addition, the proposed changes are presented with careful consideration of and intended compatibility with the CDFI Certification Application's use of TLR data.

For existing TLR data fields, one data point has been revised in the TLR and Loan Purchase TLR Objects in the Awards Management Information System to allow CDFIs to indicate a TLR transaction is associated with CDFI ERP:

Financial Assistance (FA) Program Type

New data fields (limited to CDFI ERP transactions only) have been added to the following existing TLR forms to capture data on CDFI ERP Eligible Activities, progress relating to CDFI ERP objectives, and compliance with unique CDFI ERP requirements (i.e., transactions taking place in CDFI ERP-Eligible Geographies). The form name is indicated in brackets following each data point.

ERP 2010 Census Tract [TLR Address, Loan Purchases]

ERP Small Business [TLR]

ERP Race [TLR, Loan Purchases]

ERP Ethnicity [TLR, Loan Purchases]

ERP Minority Owned or Controlled [TLR, Loan Purchases]

ERP Impact (Employment) [TLR, Loan Purchases]

ERP Impact (Healthcare) [TLR, Loan Purchases]

ERP Impact (Childcare) [TLR, Loan Purchases]

ERP Impact (Housing Stability) [TLR, Loan Purchases]

ERP Impact (Affordable Housing) [TLR, Loan Purchases]

ERP Impact (Broadband) [TLR, Loan Purchases]

ERP Impact (Food Insufficiency) [TLR, Loan Purchases]

ERP Impact (Business Disruption) [TLR, Loan Purchases]

ERP Impact (Other) [TLR, Loan Purchases]

ERP Impact (Other)—Explain [TLR, Loan Purchases]

ERP Small Business [TLR, Loan Purchases]

ERP Qualifying Native Transaction [TLR, Loan Purchases]

In the current version of the TLR, award recipients are not allowed to report on grants because they are not considered an eligible financial product reportable on the TLR. Since grants are an allowed eligible activity under CDFI ERP, the Fund has created a new form to capture grants activity from CDFI ERP recipients only. The new form's data points are listed below:

New CDFI ERP Grant-Level Report (GLR)

GLR Submission Year

Grant Award Date

Amount

Status

Purpose *

Climate-Focued Purpose

Investee Type *

ERP 2010 Census Tract

Originator Transaction ID *

Client ID *

Other Targeted Populations *

Description of Other Approved OTP *

OTP End Users *

Description of Other Approved OTP End-Users *

ERP Race

ERP Ethnicity

ERP Minority Owned or Controlled

ERP Impact (Employment)

ERP Impact (Healthcare)

ERP Impact (Childcare)

ERP Impact (Housing Stability)

ERP Impact (Affordable Housing)

ERP Impact (Broadband)

ERP Impact (Food Insufficiency)

ERP Impact (Business Disruption)

ERP Impact (Other)

ERP Impact (Other)—Detail

ERP Small Business

ERP Qualifying Native Transaction

In the current version of the TLR's Consumer Loan Report (CLR), the Fund does not collect information on the race and/or ethnicity of the borrower as well as impact of the consumer loans. These are necessary data points that the Fund needs to collect in order to assess compliance with the CDFI ERP Award Agreement. In addition, the existing CLR is set up for 2020 census tracts whereas CDFI ERP eligible geographies were based on 2010 census tracts. CDFI ERP recipients who are regulated entities with consumer loans that they want to count towards CDFI ERP will complete new CDFI ERP-Specific Consumer Loan Report (ERP CLR) in addition to the existing CLR. If a CDFI ERP Recipient who is a regulated entity does not want to count any consumer loans towards the CDFI ERP, then they will only complete the existing CLR. The new form's data points are listed below:

New CDFI ERP-Specific Consumer Loan Report Subtotal Breakout (ERP CLR)

Fiscal Year *

Census Vintage Year *

Purpose *

ERP 2010 Census Tract

ERP Total Originated Amount

ERP Total Originated Number

ERP OTP Amount

ERP OTP Number

ERP Race Amount (American Indian)

ERP Race Number (American Indian)

ERP Race Amount (Alaska Native)

ERP Race Number (Alaska Native)

ERP Race Amount (Asian)

ERP Race Number (Asian)

ERP Race Amount (Black or African American)

ERP Race Number (Black or African American)

ERP Race Amount (Native Hawaiian)

ERP Race Number (Native Hawaiian)

ERP Race Amount (Other Pacific Islander)

ERP Race Number (Other Pacific Islander)

ERP Race Amount (White)

ERP Race Number (White)

ERP Race Amount (Multi-Racial)

ERP Race Number (Multi-Racial)

ERP Race Amount (Other)

ERP Race Number (Other)

ERP Race Amount (Declined)

ERP Race Number (Declined)

ERP Hispanic Amount

ERP Hispanic Number

ERP Hispanic Amount Declined

ERP Hispanic Number Declined

ERP Impact Amount (Employment)

ERP Impact Number (Employment)

ERP Impact Amount (Healthcare)

ERP Impact Number (Healthcare)

ERP Impact Amount (Childcare)

ERP Impact Number (Childcare)

ERP Impact Amount (Housing Stability)

ERP Impact Number (Housing Stability)

ERP Impact Amount (Affordable Housing)

ERP Impact Number (Affordable Housing)

ERP Impact Amount (Broadband)

ERP Impact Number (Broadband)

ERP Impact Amount (Food Insufficiency)

ERP Impact Number (Food Insufficiency)

ERP Impact Amount (Business Disruption)

ERP Impact Number (Business Disruption)

ERP Impact Amount (Other)

ERP Impact Number (Other)

ERP Qualifying Native Transaction Amount

ERP Qualifying Native Transaction Number

In the lists of data points above for CDFI ERP GLR and the ERP CLR, respectively, there are data points with asterisks indicating existing data points already reported in the current TLR and/or CLR. While these asterisked data points will be pulled into the new CDFI ERP GLR and the new ERP CLR, the properties of these existing data points are not being altered to fit any CDFI ERP reporting requirement.

More details on the changes described above can be found in the updated guidance document available on the CDFI Fund website at https://www.cdfifund.gov/requests-for-comments.

Type of Review: Regular Review.

Affected Public: CDFIs including businesses or other for-profit institutions, non-profit entities, and State, local and Tribal entities participating in CDFI Fund programs.

Estimated Number of Respondents:

TLR (CDFI ERP related data points only), ERP CLR, and GLR: 603.

Estimated Annual Time (in hours) per Respondent:

TLR (CDFI ERP related data points only), ERP CLR, and GLR: 10.

Estimated Total Annual Burden in Hours:

TLR (CDFI ERP related data points only), ERP CLR and GLR: 6,030.

Request for Comments: Comments submitted in response to this notice will be summarized and/or included in the request for OMB approval. All comments will become a matter of public record. Comments are invited on all aspects of the information collections, but commentators may wish to focus particular attention on: (a) whether the collection of information is necessary for the proper performance of the functions of the CDFI Fund, including whether the information shall have practical utility; (b) the accuracy of the CDFI Fund's estimate of the burden of the collection of information; (c) ways to enhance the quality, utility, and clarity of the information to be collected; (d) ways to minimize the burden of the collection of information on respondents, including through the use of technology; and (e) estimates of capital or start-up costs and costs of operation, maintenance, and purchase of services to provide information.

Please note this request for public comment is restricted to the changes tied to recipient reporting in the TLR and its supporting objects from CDFI ERP Award Recipients.

Authority: 12 U.S.C. 4707 et seq.; 26 U.S.C. CFR part 1805.

Pravina Raghavan,
Director, Community Development Financial Institutions Fund.

[FR Doc. 2024-18769 Filed 8-21-24; 8:45 am]

BILLING CODE 4810-05-P